SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, Fax: 202-395-6974.

(SSA), Social Security Administration, DCFAM, Attn: Reports Clearance Officer, 1333 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Annual Earnings Test Direct Mail Follow-Up Program Notices—20 CFR 404.452-404.455—0960-0369. The Mid-Year Mailer (MYM) is used to ensure that Retirement and Survivors Insurance (RSI) payments are correct. Beneficiaries under full retirement age (FRA) use Forms SSA-L9778, L9779, and L9781 to update their current year estimate and their estimate for the following year. MYM Forms SSA-L9784 and L9785 are designed to request earnings estimates in the year of FRA for the period prior to the month of FRA. Only one individually tailored form is sent per respondent. Respondents are RSI beneficiaries with earnings over the exempt amount.

Type of Request: Extension of an OMB-approved information collection.

Number of Respondents: 225,000.

Frequency of Response: 1.

Average Burden per Response: 10 minutes.

Estimated Annual Burden: 37,500 hours.

2. Internet Request for Replacement of Forms SSA-1099/SSA-1042S—20 CFR 401.45—0960-0583. The information collected will be used by SSA to verify identity and to provide replacement copies of Forms SSA-1099/SSA-1042S needed to prepare Federal tax returns. This internet option to request a replacement SSA-1099/SSA-1042S will eliminate the need for a phone call to the national 800 number or a visit to a local field office. The respondents are beneficiaries who are requesting a replacement SSA-1099/SSA-1042S.

Type of Request: Extension of an OMB-approved information collection.

Number of Respondents: 21,000.

Frequency of Response: 1.

Average Burden per Response: 1.5 minutes.

Estimated Annual Burden: 525 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Statement of Self-Employment Income—20 CFR 404.101, 404.110, 404.1096(a)-(d), 404.610-404.611, 422.505—0960-0046. SSA uses the information on Form SSA-766 to expedite the payment of benefits to an individual who is self-employed and who is establishing insured status in the current year. Respondents are self-employed individuals who may be eligible for Social Security benefits.

Type of Request: Extension of an OMB-approved information collection.

Number of Respondents: 5,000.

Frequency of Response: 1.

Average Burden per Response: 5 minutes.

Estimated Annual Burden: 417 hours.

2. Certification by Religious Group—20 CFR 404.1075—0960-0093. Form SSA-1458 is used to determine if the religious group meets the qualifications set out in Section 1402(g) of the Internal Revenue Code which permits members of certain religious groups and sects to be exempt from payment of Self-Employment Contribution Act taxes. The respondents are spokespersons for religious groups or sects.

Type of Request: Extension of an OMB-approved information collection.

Number of Respondents: 180.

Frequency of Response: 1.

Average Burden per Response: 15 minutes.

Estimated Annual Burden: 45 hours.

3. Request for Internet Services—Authentication; Automated Telephone Speech Technology—Knowledge-Based Authentication—20 CFR 401.45—0960-0596. Individuals and third parties who request personal information from SSA records, or register with SSA in order to participate in SSA's online business services, are asked to provide certain identifying information to verify their identity. As an extra measure of protection, SSA asks requestors who use the Internet and telephone services to provide additional identifying information unique to those services so that SSA can authenticate their identities before releasing personal information. The respondents are current beneficiaries who are requesting personal information from SSA and/or individuals or third parties who are registering for SSA's online business services.

Type of Request: Revision of an OMB-approved information collection.

Forms | Number of respondents | Frequency of response | Average burden per response | Burden hours
Internet Requestors | 2,076,138 | 1 | 1½ minutes | 51,903
Telephone Requestors | 20,889,488 | 1 | 1½ minutes | 522,237
Totals | 22,965,626 |  |  | 574,140

Estimated Annual Burden: 574,140 hours.

4. Request for Reconsideration—20 CFR 404.907-404.921, 416.1407-416.1421, 408.1009—0960-0622. The information collected on Form SSA-561-U2 is used by SSA to document and initiate the reconsideration process for determining entitlement to Social Security benefits (Title II), Supplemental Security Income payments (Title XVI), Special Veterans Benefits (Title VIII), Medicare (Title XVIII) and of initial determinations regarding Medicare Part B income-related premium subsidy reductions. The respondents are individuals filing for reconsideration.

Type of Request: Revision of an OMB-approved information collection.

Number of Respondents: 1,461,700.

Frequency of Response: 1.

Average Burden per Response: 8 minutes.

Estimated Annual Burden: 194,893 hours.

5. Integration Registration Services (IRES) System—20 CFR 401.45—0960-0626. The IRES System registers and authenticates businesses, employers and third parties with SSA, and issues them Personal Identification Numbers (PIN). These PINs will be used in the place of handwritten signatures on forms, when using SSA's Business Services Online. Respondents are employers and third party submitters of wage data, business entities providing tax payer identification information and other electronic records, and data exchange partners conducting business in support of SSA programs.

Type of Request: Revision of an OMB-approved information collection.

Number of Respondents: 460,000.

Frequency of Response: 1.

Average Burden per Response: 2 minutes.

Estimated Annual Burden: 15,333 hours.

6. Request for Deceased Individual's Social Security Record—20 CFR 402.130—0960-0665. The SSA-711 is used to process requests from the public for a microprint of the SS-5, Application for Social Security Card, for a deceased individual. Respondents are members of the public who are requesting deceased individuals' Social Security records.

Type of Request: Extension of an OMB-approved information collection.

Number of Respondents: 50,000.

Frequency of Response: 1.

Average Burden per Response: 7 minutes.

Estimated Annual Burden: 5,833 hours.

7. Medical Consultant's Review of Mental Residual Functional Capacity Assessment—20 CFR 404.1520a, 404.1640, 404.1643, 404.1645, 416.920a—0960-0678. Form SSA-392-SUP is used by SSA's regional review component to facilitate the medical/psychological consultant's review of the Mental Residual Functional Capacity Form, SSA-4734-SUP. The SSA-392-SUP records the reviewing medical/psychological consultant's assessment of the SSA-4734-SUP prepared by the adjudicating component and also records whether the reviewer agrees or disagrees with the manner in which the SSA-4734-SUP was completed. The SSA-392-SUP is required for each SSA-4734-SUP form completed. The respondents are the 256 medical/psychological consultants responsible for reviewing the SSA-4734-SUP.

Type of Request: Extension of an OMB-approved information collection.

Number of Responses: 45,000.

Frequency of Response: 1.

Average Burden per Response: 12 minutes.

Estimated Annual Burden: 9,000 hours.

8. Request for Business Entity Taxpayer Information—0960-NEW. The SSA-1694 will be used to collect information from law firms or other business entities that have partners or employees to whom SSA pays fees that have been authorized as compensation for the representation of claimants before SSA. SSA will collect the name of the firms and/or business entities, as well as their addresses and Employer Identification Numbers (EIN) to keep a record on file for tax purposes. This information will be used to meet any requirement for issuance of a Form 1099-MISC. The respondents are law firms or other business entities that have partners or employees that are attorneys or other qualified individuals who represent claimants before SSA.

Type of Request: Request for a new information collection.

Number of Respondents: 1,000.

Frequency of Response: 1.

Average Burden per Response: 10 minutes.

Estimated Annual Burden: 167 hours.

9. Identifying Information for Possible Direct Payment of Authorized Fees—0960-NEW. The SSA-1695 will be used to collect information from appointed representatives that will facilitate the direct payment of authorized fees related to the representation of claimants for benefits before SSA and to issue a Form 1099-MISC, as required. The information will also be used to establish a link between each claim for benefits and the data that will be collected on the SSA-1699 and stored on an Appointed Representative Database. Respondents are attorneys and other individuals who represent claimants for benefits before SSA.

Type of Request: Request for a new information collection.

Number of Respondents: 10,000.

Frequency of Response: 25.

Number of Responses: 250,000

Average Burden per Response: 10 minutes.

Estimated Annual Burden: 41,667 hours.

10. Request for Appointed Representative's Direct Payment Information—0960-NEW. The SSA-1699 will be used to collect information from appointed representatives in order to facilitate the direct payment of authorized fees, including the possible use of direct deposit to a financial institution. SSA will also use the information provided to meet any requirement to issue a Form 1099-MISC when SSA has paid the representative aggregate fees of $600 or more in a taxable year. Business affiliation information will be used to determine if a Form 1099-MISC should be issued to a firm in those situations where the representative is associated with a firm as an employee or partner. Since the SSA-1699 is used as a registration form for the Appointed Representative Database, representatives will only need to fill it out once, unless they need to make a change to any of their information. This form is used in conjunction with the SSA-1695, which links the Appointed Representative Database with the individual claims the representatives handle. Respondents are attorneys or non-attorneys eligible for direct payment (i.e., have met certain prerequisites established by law).

Type of Request: Request for a new information collection.

Number of Respondents: 10,000.

Frequency of Response: 1.

Average Burden per Response: 20 minutes.

Estimated Annual Burden: 3,333 hours.

11. SSI Monthly Wage Reporting Phase 2 Pilot—20 CFR 416.701-732—0960-0715. Supplemental Security Income (SSI) recipients are required to report changes in their income, resources and living arrangements that may affect eligibility or payment amount. Currently, SSI recipients report changes on Form SSA-8150, Reporting Events—SSI, or to an SSA teleservice representative through SSA's toll-free telephone number, or they visit their local Social Security office. The SSI wage reporting program area has the highest error rate largely due to non-reporting, which accounts for approximately $500 million in overpayments each year. Consequently, SSA is evaluating methods for increasing reporting. SSA is conducting a pilot to test an additional method for individuals to report wages for the SSI program. We are testing to determine if, given an easily accessible automated format, individuals will increase compliance with reporting responsibilities. Increased timely reporting could result in a decrease in improper payments. SSA will also be testing the use of knowledge-based authentication to determine if this is an effective method of accessing SSA's system. Lastly, SSA will test recent system enhancements and additional systems enhancements expected in May 2006 that will make reporting easier.

During the pilot, participants who need to report a change in earned income will call an SSA toll-free telephone number to report the change. The participants will access SSA's system using knowledge-based authentication (providing name, SSN and date of birth). Participants will either speak their report (voice recognition technology) or key in the information using the telephone key pad. SSA will issue receipts to participants who report wages using this method. Respondents to this collection are SSI recipients, deemors and representative payees of recipients who agree to participate in the pilot.

Type of Request: Extension of OMB approval.

Number of Respondents: 600.

Frequency of Response: 7.

Average Burden per Response: 5 minutes.

Estimated Annual Burden: 350 hours.

Dated: June 30, 2006.
Elizabeth A. Davidson,
Reports Clearance Officer, Social Security Administration.

[FR Doc. E6-10668 Filed 7-6-06; 8:45 am]

BILLING CODE 4191-02-P